DEPARTMENT OF HOMELAND SECURITY

Coast Guard

33 CFR Part 117

[Docket No. USCG-2024-0400]

RIN 1625-AA09

Drawbridge Operation Regulation; Townsend Gut, Southport, ME

AGENCY: Coast Guard, DHS.

ACTION: Temporary final rule.

SUMMARY: The Coast Guard is temporarily revising the operating schedule that governs the Southport (SR27) Bridge at mile 0.7 across Townsend Gut between Boothbay Harbor and Southport, ME. This action is necessary to allow Maine Department of Transportation (ME DOT) to conduct rehabilitation of the bridge. During the effective period, the bridge will be unable to open to marine traffic due to an operational imbalance while the work is being conducted.

DATES: This rule is effective without actual notice from October 16, 2024, through 11:59 p.m. on May 30, 2025. For purposes of enforcement, actual notice will be used from 12:01 a.m. on September 30, 2024 through October 16, 2024.

ADDRESSES: To view documents mentioned in this preamble as being available in the docket, go to https://www.regulations.gov. Type the docket number USCG-2024-0400 in the “SEARCH” box and click “SEARCH”. In the Document Type column, select “Supporting & Related Material.”

FOR FURTHER INFORMATION CONTACT: If you have questions on this rule, call or email Mr. Gary Croot, First Coast Guard District, Project Officer, telephone 206-815-1364, email Gary.T.Croot@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

II. Background Information and Regulatory History

On June 21, 2024, the Coast Guard published a notice of proposed rulemaking (NPRM), with a request for comments, entitled “Drawbridge Operation Regulation; Townsend Gut, Southport, ME”, in the Federal Register (89 FR 51993), to seek your comments on whether the Coast Guard should consider temporarily modifying the current operating schedule to the Southport (SR27) Bridge. During the comment period which ended July 22, 2024, no public comments were received.

III. Legal Authority and Need for Rule

The Coast Guard is issuing this rule under authority 33 U.S.C. 499. The Southport Swing Bridge carries Maine State Route 27 across Townsend Gut at mile 0.7 between Boothbay Harbor, ME and Southport, ME. The bridge has a vertical clearance of 10.0 feet at Mean High Water and 52.0 feet horizontal clearance when in the closed position. Waterway users include recreational boaters and commercial fishing vessels.

The existing drawbridge operating regulation is 33 CFR 117.537 and requires the bridge to open on request, except that from April 29 through September 30, between 6 a.m. and 6 p.m. the draw shall open on signal on the hour and half hour only, after an opening request is given.

ME DOT requested a temporary change to the regulation to allow the bridge to remain in the closed to navigation position so they can conduct bridge rehabilitation which includes replacing the bridge deck, and electrical and mechanical systems upgrades. The bridge will be unable to open to marine traffic due to an operational imbalance while the work is being conducted.

IV. Discussion of Comments, Changes and the Final Rule

The public comment period opened on June 21, 2024, and closed on July 22, 2024. No public comments were received during the public comment period.

This temporary final rule will stay the current regulation in § 117.537, which requires the Southport (SR27) Bridge to open on request from October 1 through April 28. From April 29 through September 30, the bridge is required to open on request from 6 p.m. through 6 a.m. and on request on the hour and half hour only from 6 a.m. through 6 p.m. This temporary final rule adds a temporary regulation in § 117.T538 to allow the bridge to remain in the closed to navigation position from September 30, 2024 through May 30, 2025. Vessels that can pass under the bridge while in the closed position may do so. Vessels that are too large to pass under the bridge while in the closed position may navigate around Southport Island.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, it has not been reviewed by the Office of Management and Budget (OMB).

This regulatory action determination is based on the ability of vessels to use an alternate route. Vessels that are able to pass under the bridge while in the closed position may continue to do so.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev. 1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

§ 117.537 [Stayed]

2. Stay § 117.537.

3. Add § 117.T538 to read as follows:

§ 117.T538 Townsend Gut.

The draw of the Southport (SR27) Bridge at mile 0.7 across Townsend Gut between Boothbay Harbor and Southport, Maine is allowed to remain closed to navigation.

M.E. Platt,
Rear Admiral, U.S. Coast Guard, Commander, First Coast Guard District.

[FR Doc. 2024-23738 Filed 10-15-24; 8:45 am]

BILLING CODE 9110-04-P